DEPARTMENT OF TRANSPORTATION

Federal Aviation Administration

Notice of Availability of a Final Environmental Assessment (Final EA) and a Finding of No Significant Impact (FONSI)/Record of Decision (ROD) for a Proposed Airport Traffic Control Tower and Base Building at Peoria International Airport, Peoria, Illinois.

AGENCY: Federal Aviation Administration (FAA), DOT.

ACTION: Notice of Availability of a Final Environmental Assessment (Final EA) and Finding of No Significant Impact (FONSI)/Record of Decision (ROD) for a Proposed Airport Traffic Control Tower and Base Building at Peoria International Airport, Peoria, Illinois.

SUMMARY: The Federal Aviation Administration (FAA) is issuing this notice to advise the public that the FAA has prepared, and approved on December 15, 2015, a Finding of No Significant Impact (FONSI)/Record of Decision (ROD) based on the Final Environmental Assessment (Final EA) for a Proposed Airport Traffic Control Tower (ATCT) with Associated Base Building at Peoria International Airport (PIA), Peoria, Illinois. The FAA prepared the Final EA in accordance with the National Environmental Policy Act and the FAA's regulations and guidelines for environmental documents and was signed on September 25, 2015. Copies of the FONSI/ROD and/or Final EA are available by contacting Ms. Virginia Marcks through the contact information provided below.

FOR FURTHER INFORMATION CONTACT: Ms. Virginia Marcks, Manager, Infrastructure Engineering Center, AJW-2C15H, Federal Aviation Administration, 2300 East Devon Avenue, Des Plaines, Illinois 60018. Telephone number: (847) 294-7494.

SUPPLEMENTARY INFORMATION: The Final EA evaluated the construction and operation of a new ATCT and Base Building at PIA. The ATCT will be located approximately 660 feet east of the existing ATCT facility on vacant land located on airport property. The new ATCT will be a Low Activity Level facility with a 440 square foot cab and will be at an overall height of 162 feet above ground level. The Base Building will be 11,000 sq. feet to house the Terminal Radar Approach Control (TRACON) facility. The project also includes, and the Final EA evaluated, construction of a paved parking area next to the Base Building; site work, including, grading, drainage, utilities, and fencing; decommissioning the existing ATCT; modification to the existing FAA Remote Transmitter/Receiver (RTR) and Low Level Windshear Alert System (LLWAS) including upgrade and/or relocation; unconditional approval of the revised Airport Layout Plan; and Federal funding of the project.

The Final EA has been prepared in accordance with the National Environmental Policy Act (NEPA) of 1969, as amended, and FAA Order 1050.1E, “Environmental Impacts: Policies and Procedures,” which is compliant with FAA Order 1050.1F, effective July 16, 2015, paragraph 1-9, pertaining to ongoing environmental documents. In addition, FAA Order 5050.4B, “National Environmental Policy Act (NEPA) Implementing Instructions for Airport Actions” has been used as guidance in the preparation of the environmental analysis.

Issued in Des Plaines, Illinois, on February 17, 2016.
Virginia Marcks,
Manager, Infrastructure Engineering Center, Chicago, AJW-2C15H, Federal Aviation Administration.

[FR Doc. 2016-06321 Filed 3-21-16; 8:45 am]

BILLING CODE 4910-13-P